DEPARTMENT OF THE TREASURY

Public Meeting of the President's Advisory Panel on Federal Tax Reform

AGENCY: Department of the Treasury.

ACTION: Notice of meeting.

SUMMARY: This notice advises all interested persons of a public meeting of the President's Advisory Panel on Federal Tax Reform.

DATES: This meeting will be held on Tuesday, April 12, 2005. The meeting will be held via teleconference and will begin at 2 p.m. eastern daylight time. Interested parties will be able to listen to the meeting. Call-in information will be posted on the Panel's Web site, http://www.taxreformpanel.gov, at a later date. Call in lines will be available on a first call first served basis.

FOR FURTHER INFORMATION CONTACT: The Panel staff at (202) 927-2TAX (927-2829) (not a toll-free call) or e-mail info@taxreformpanel.gov (please do not send comments to this box). Additional information is available at http://www.taxreformpanel.gov. For persons with disabilities, please contact the Panel Staff if reasonable accommodation is needed.

SUPPLEMENTARY INFORMATION: Purpose: This meeting is the seventh meeting of the Advisory Panel. The Panel will discuss issues presented during its first six meetings.

Comments: Interested parties are invited to call into the teleconference to listen to the meeting; however, no public comments will be heard at the meeting. Any written comments with respect to this meeting may be mailed to The President's Advisory Panel on Federal Tax Reform, 1440 New York Avenue, NW., Suite 2100, Washington, DC 20220. All written comments will be made available to the public.

Records: Records are being kept of Advisory Panel proceedings and will be available at the Internal Revenue Service's FOIA Reading Room at 1111 Constitution Avenue, NW., Room 1621, Washington, DC 20024. The Reading Room is open to the public from 9 a.m. to 4 p.m., Monday through Friday except holidays. The public entrance to the reading room is on Pennsylvania Avenue between 10th and 12th streets. The phone number is (202) 622-5164 (not a toll-free number). Advisory Panel documents, including meeting announcements, agendas, and minutes, will also be available on http://www.taxreformpanel.gov.

Dated: March 24, 2005.
Mark S. Kaizen,
Designated Federal Officer.

[FR Doc. 05-6164 Filed 3-28-05; 8:45 am]

BILLING CODE 4810-25-P